DEPARTMENT OF COMMERCE

National Oceanic and Atmospheric Administration

[I.D. 021000B]

Marine Mammals; File No. 758-1459-01

AGENCY: National Marine Fisheries Service (NMFS), National Oceanic and Atmospheric Administration (NOAA), Commerce.

ACTION: Issuance of permit amendment.

SUMMARY: Notice is hereby given that Dr. Kimberlee Beckmen, Institute of Arctic Biology, University of Alaska Fairbanks, P.O. Box 757000, Fairbanks, AK 99775-7000, has been issued an amendment to scientific research Permit No.758-1459.

ADDRESSES: The amendment and related documents are available for review upon written request or by appointment in the following office(s):

Permits and Documentation Division, Office of Protected Resources, NMFS, 1315 East-West Highway, Room 13705, Silver Spring, MD 20910 (301/713-2289); and

Alaska Region, NMFS, P.O. Box 21668, Juneau, AK 99802-1668 (907/586-7221).

FOR FURTHER INFORMATION CONTACT: Ruth Johnson, 301/713-2289.

SUPPLEMENTARY INFORMATION: On May 11, 1999, notice was published in the Federal Register (64 FR 25294) that an amendment of Permit No. 758-1459, issued August 21, 1998 (63 FR 46417), had been requested by the above-named individual. The requested amendment has been granted under the authority of the Marine Mammal Protection Act of 1972, as amended (16 U.S.C. 1361 et seq.), the Regulations Governing the Taking and Importing of Marine Mammals (50 CFR part 216), and the Fur Seal Act of 1966, as amended (16 U.S.C. 1151 et seq.).

The Permit authorizes the Holder to conduct a variety of capture/release research activities on northern fur seal pups. Research will be carried out in conjunction with the NMFS, National Marine Mammal Laboratory.

Dated: March 3, 2000.
Ann D. Terbush,
Chief, Permits and Documentation Division, Office of Protected Resources, National Marine Fisheries Service.

[FR Doc. 00-5906 Filed 3-9-00; 8:45 am]

BILLING CODE 3510-22-F